DEPARTMENT OF COMMERCE

International Trade Administration

[A-583-836]

Notice of Final Determination of Sales at Not Less Than Fair Value: Stainless Steel Bar From Taiwan

AGENCY: Import Administration, International Trade Administration, Department of Commerce.

ACTION: Notice of final determination.

SUMMARY: We determine that stainless steel bar from Taiwan is not being, nor is likely to be, sold in the United States at less than fair value, as provided in section 735 of the Tariff Act of 1930, as amended. On August 2, 2001, the Department of Commerce published its preliminary determination of sales at not less than fair value of stainless steel bar from Taiwan. Based on the results of verification and our analysis of the comments received, we have made changes in the margin calculations. However, this final determination does not differ from the preliminary determination, in which we found that the respondent did not make sales in the United States at prices below normal value.

EFFECTIVE DATE: January 23, 2002.

FOR FURTHER INFORMATION CONTACT: Blanche Ziv or Annika O'Hara, Office 1, AD/CVD Enforcement, Import Administration, International Trade Administration, U.S. Department of Commerce, 14th Street and Constitution Avenue, NW., Washington, DC 20230; telephone: (202) 482-4207 and (202) 482-3798, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2000).

Case History

The preliminary determination in this investigation was issued on July 26, 2001. See Notice of Preliminary Determination of Sales at Not Less Than Fair Value: Stainless Steel Bar from Taiwan, 66 FR 40198 (August 2, 2001) (“Preliminary Determination”). Since the Preliminary Determination, the following events have occurred:

On July 27, 2001, the Department solicited additional information from the respondent Gloria Material Technology Corporation, (“Gloria”). On August 6, 2001, we received a response, including revised cost of production (“COP”) and constructed value (“CV”) databases.

Verification of the response submitted by Gloria took place from August 12 through 23, 2001 (see the “Verification” section below).

On November 14, 2001, the petitioners in this case (i.e., Carpenter Technology Corp., Crucible Specialty Metals, Electralloy Corp., Empire Specialty Steel Inc., Slater Steels Corp., and the United Steelworkers of America) and Gloria submitted case briefs. The petitioners and Gloria submitted rebuttal briefs on November 19, 2001. At the request of the petitioners, the Department held a public hearing on November 28, 2001.

Although the deadline for this determination was originally December 17, 2001, in order to accommodate certain verifications that were delayed because of the events of September 11, 2001, the Department tolled the final determination deadline in this and the concurrent stainless steel bar investigations until January 15, 2002.

Scope of Investigation

For purposes of this investigation, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this investigation is dispositive.

Prior to the preliminary determination in this investigation, the respondent in this and the companion SSB investigations filed comments seeking to exclude certain products from the scope of these investigations. The specific products identified in their exclusion requests were: stainless steel tool steel, welding wire, special-quality oil field equipment steel (SQOFES), and special profile wire.

In the preliminary determinations, we concluded that all of these products, except for special profile wire, are within the scope of these investigations. Specifically, regarding stainless steel tool steel, welding wire, and SQOFES, after considering the respondents' comments and the petitioners' objections to the exclusion requests, we preliminarily determined that the scope is not overly broad. Therefore, stainless steel tool steel, welding wire, and SQOFES are within the scope of these SSB investigations. In addition, we preliminarily determined that SQOFES does not constitute a separate class or kind of merchandise from SSB. Regarding special profile wire, we preliminarily determined that this product does not fall within the scope as it is written because its cross section is in the shape of a concave polygon. Therefore, we did not include special profile wire in these investigations. (For details, see the Memorandum to Susan Kuhbach and Louis Apple from the Stainless Steel Bar Team, dated July 26, 2001, entitled “Scope Exclusion Requests,” and the Memorandum to Louis Apple from the Stainless Steel Bar Team, dated July 26, 2001, entitled “Whether Special Profile Wire Product is Included in the Scope of the Investigation.”)

Finally, we note that in the concurrent countervailing duty investigation of stainless steel bar from Italy, the Department preliminarily determined that hot-rolled stainless steel bar is within the scope of these investigations. (See Preliminary Affirmative Countervailing Duty Determination and Alignment of Final Countervailing Duty Determination with Final Antidumping Duty Determination: Stainless Steel Bar from Italy, 66 FR 30414 (June 6, 2001).)

With the exception of one respondent in the Germany investigation which filed comments on the Department's preliminary scope decision with respect to SQOFES which the Department disagrees with and has addressed in the January 15, 2002, Decision Memorandum in that case, no other parties filed comments on our preliminary scope decisions. Furthermore, no additional information has otherwise come to our attention to warrant a change in our preliminary scope decisions. Therefore, we have made no changes for purposes of the final determinations.

Period of Investigation

The period of this investigation (“POI”) is October 1, 1999, through September 30, 2000.

Fair Value Comparisons

To determine whether sales of stainless steel bar from Taiwan to the United States were made at less than fair value, we compared export price (“EP”) to normal value (“NV”). Our calculations followed the methodologies described in the Preliminary Determination, except as noted below and in the Final Determination Calculations for Gloria Material Technology Corporation and Golden Win Steel Corporation (“Golden Win”) Memorandum dated January 15, 2002 (“Calculation Memorandum”), which is on file in the Import Administration's Central Records Unit (“CRU”), Room B-099 of the main Department of Commerce building.

Export Price

For sales to the United States, we used EP as defined in section 772(a) of the Act. We calculated EP based on the same methodologies described in the Preliminary Determination, with the following exceptions:

Based on our findings at verification, we made revisions to Gloria's U.S. sales database related to its reported date of sale, U.S. credit expenses, domestic inland freight, brokerage and handling, and gross unit price. See Gloria's Calculation Memorandum, Gloria's Sales and Cost Verification Report and Comment 2 and 6 of the January 15, 2002 Decision Memorandum. Finally, we have included the additional U.S. sales provided by Gloria at verification in our final calculations. See Comment 7 of the January 15, 2002 Decision Memorandum.

Normal Value

We used the same methodology as that described in the Preliminary Determination to determine the COP, whether comparison market sales were at prices below the COP, and the NV, with the following exceptions:

1. Cost of Production Analysis

Based on information provided by Gloria since the Preliminary Determination, we revised Gloria's costs to include the verified COP and CV data based on Gloria's August 6, 2001 supplemental questionnaire response. We have combined Gloria's raw material costs into a single weight-averaged cost for each grade designation under the Department's model matching methodology for the final determination. See Comment 1 of the January 15, 2002 Decision Memorandum. We revised Gloria's grade designation by collapsing into a single grade designation the direct material costs for three grades Gloria incorrectly reported separately. See Comment 2 of the January 15, 2002 Decision Memorandum.

Based on our findings at the cost verification, we made revisions to Gloria's COP database to correct errors related to its reported costs for SG&A, research and development, and interest expenses. Because we verified the information in the CV and COP databases submitted by Gloria, we have removed the upward adjustments made at the preliminary determination for direct materials, direct labor, variable and fixed overhead. We have recalculated Golden Win's G&A expense ratio based on its financial statements and excluded the “bad debt loss” from accounts receivable noted in the CPA adjustment from our calculation. See Comment 4 of the January 15, 2002 Decision Memorandum. We have reduced Gloria's reported COM by the amount of packing expenses reported in the sales database. See Comment 7 of the January 15, 2002 Decision Memorandum.

For the products Gloria reported sold but not purchased or produced during the POI, we have reassigned costs based on a more appropriate match to the next most similar grade than those reported by Gloria. We have dropped costs associated with products purchased but not produced by Gloria. See Comment 3 of the January 15, 2002 Decision Memorandum.

2. Calculation of NV

We recalculated credit expenses using the last payment date reported. See Comment 6 of the January 15, 2002 Decision Memorandum. Furthermore, we excluded from Gloria's home market sales database, the sales of products for which Gloria reported a zero production quantity because these products were produced by other manufacturers. See Comment 7 of the January 15, 2002 Decision Memorandum.

In addition, we corrected several errors related to Gloria's reported return quantity, warranty, warehousing, and inland freight expense fields, which were presented by Gloria at the onset of the sales verification. See Gloria's Calculation Memorandum and Gloria's Sales and Cost Verification Report.

Currency Conversions

We made currency conversions in accordance with section 773A of the Act in the same manner as in the Preliminary Determination.

Verification

As provided in section 782(i)(1) of the Act, we verified the information submitted by Gloria for our final determination. We used standard verification procedures, including examination of relevant accounting and production records, as well as original source documents provided by the respondent.

Analysis of Comments Received

All issues raised in the case and rebuttal briefs by parties to this investigation are addressed in the January 15, 2002 Decision Memorandum, which is hereby adopted by this notice. Attached to this notice as an appendix is a list of the issues which parties have raised and to which we have responded in the Decision Memorandum. Parties can find a complete discussion of all issues raised in this investigation and the corresponding recommendations in this public memorandum which is on file in the Department's CRU. In addition, a complete version of the Decision Memorandum can be accessed directly on the Web at http://ia.ita.doc.gov/frn/frnhome.htm. The paper copy and electronic version of the Decision Memorandum are identical in content.

Final Determination

We determine that the following weighted-average percentage margins exist for the period October 1, 1999, through September 30, 2000:

Exporter/manufacturer | Weighted-average margin percentage
Gloria | 0.00

Suspension of Liquidation

Because the estimated weighted-average dumping margin of the examined company is 0.00 percent, we are not directing the Customs Service to suspend liquidation of entries of stainless steel bar from Taiwan.

Notification of the International Trade Commission

In accordance with section 735(d) of the Act, we have notified the International Trade Commission of our determination. This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This determination is published pursuant to sections 735(d) and 777(i)(1) of the Act.

Dated: January 15, 2002.
Faryar Shirzad,
Assistant Secretary for Import Administration.

Appendix

Comment 1: Gloria's Direct Material Costs.

Comment 2: Gloria's Grade Designations.

Comment 3: Cost Data with Zero Production Quantities.

Comment 4: Golden Win's G&A.

Comment 5: Interest Expense Calculation.

Comment 6: Credit Expenses.

Comment 7: Additional U.S. Sales.

Comment 8: Packing.

Comment 9: Variable and Fixed Overhead Adjustment.

[FR Doc. 02-1654 Filed 1-22-02; 8:45 am]

BILLING CODE 3510-DS-P